DEPARTMENT OF HEALTH AND HUMAN SERVICES

Centers for Disease Control and Prevention and Agency for Toxic Substance and Disease Registry

American Indian/Alaska Native Governments and Organizations Budget Planning and Priorities; Meeting

The Office of the Director of the Centers for Disease Control and Prevention (CDC) and Agency for Toxic Substance and Disease Registry (ATSDR) announces the following meeting:

Name: Centers for Disease Control and Prevention (CDC) and Agency for Toxic Substances and Disease Registry (ATSDR) American Indian/Alaska Native (AI/AN) Governments and Organizations Budget Planning and Priorities Meeting.

Time and date: 9 a.m.-5 p.m., February 22, 2001.

Place: Roybal Campus, Building 2, Auditorium B, 1600 Clifton Road, Atlanta Georgia 30333.

Status: The meeting is open to the public and is limited only by the space available. The meeting room accommodates approximately 150 people. For those unable to attend the meeting, a toll-free audio bridge has been arranged from 9:00am to 5:00pm. The public comment period is scheduled from 1:30 p.m.-3:00 p.m. Comments and recommendations may be received via audio conference and fax.

Purpose: In accordance with Departmental policy on consultation with (AI/AN) Governments and Organizations, CDC/ATSDR will host this meeting to give AI/AN people an opportunity to present their public health program needs and priorities. The timing of this meeting will allow CDC and ATSDR to consider these needs and priorities in developing the FY 2002 budget request.

Matters To Be Discussed: The agenda will include opening remarks/introductions, testimony of AI/AN leaders, public comments period, break-out sessions and general discussion.

Audio Bridge and Fax Information: Audio bridge telephone number for Non-Federal participants: 1-800-793-8598 Audio bridge telephone number for Federal participants: 404-639-4100. If you are calling from area code 404, 770, or 678, please do not use the 800 number. PASS CODE 987654.

If you are having a problem during your conference, you may press *0 at any time to signal the attendant. If you have questions, about the technical operations of the teleconference equipment, please call 404-639-7550. Fax telephone number for comments and recommendations: 1-800-553-6323.

Conference Code: Host CODE 499823 LISTEN CODE 418007

Date: February 22, 2001.

Audio bridge Conference Time: 8:45 a.m.-5 p.m.

Public Comment Period (Audio and Fax): 1:30 p.m.-3 p.m.

If you have a problem during your audio conference, please call: Non-Federal Participants: 800-793-8598 and Atlanta Area Participants: 404-639-4100.

Contact Person for More Information: Ms. Sam Gerber, Office of the Associate Director for Minority Health, CDC 1600 Clifton Road, M/S D-39, Atlanta, GA 30333, telephone 404-639-7220, fax 404-639-7039, e-mail: SGerber@cdc.gov.

The Director, Management Analysis and Services Office, has been delegated the authority to sign Federal Register notices pertaining to announcements of meetings and other committee management activities, for both the Centers for Disease Control and Prevention and the Agency for Toxic Substances and Disease Registry.

Dated: January 25, 2001.
Carolyn J. Russell,
Director, Management Analysis and Services Office, Centers for Disease Control and Prevention.

[FR Doc. 01-2626 Filed 1-30-01; 8:45 am]

BILLING CODE 4160-19-P